DEPARTMENT OF TRANSPORTATION

Federal Aviation Administration

14 CFR Part 39

[Docket No. FAA-2005-21433; Directorate Identifier 2005-NM-079-AD; Amendment 39-14123; AD 2005-12-07]

RIN 2120-AA64

Airworthiness Directives; Airbus Model A319, A320, and A321 Series Airplanes

AGENCY: Federal Aviation Administration (FAA), Department of Transportation (DOT).

ACTION: Final rule; request for comments.

SUMMARY: The FAA is adopting a new airworthiness directive (AD) for certain Airbus Model A319, A320, and A321 series airplanes. This AD requires a one-time ultrasonic inspection for certain airplanes, and repetitive detailed inspections for all airplanes, for cracking in the forward lug of the support rib 5 fitting of both main landing gear (MLG), and repair if necessary. This AD also provides for optional terminating actions. This AD is prompted by a report of a crack found in the forward lug of the right-hand MLG rib 5 fitting during greasing of both MLG pintle bearings. We are issuing this AD to find and fix cracking in the forward lug of the MLG, which could result in failure of the lug and consequent collapse of the MLG during landing.

DATES: Effective June 30, 2005.

The incorporation by reference of a certain publication listed in the AD is approved by the Director of the Federal Register as of June 30, 2005.

We must receive comments on this AD by August 15, 2005.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

For service information identified in this AD, contact Airbus, 1 Rond Point Maurice Bellonte, 31707 Blagnac Cedex, France.

You can examine the contents of this AD docket on the Internet at http://dms.dot.gov, or in person at the Docket Management Facility, U.S. Department of Transportation, 400 Seventh Street SW., room PL-401, on the plaza level of the Nassif Building, Washington, DC. This docket number is FAA-2005-21433; the directorate identifier for this docket is 2005-NM-079-AD.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System (DMS) receives them.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION: The Direction Générale de l'Aviation Civile (DGAC), which is the airworthiness authority for France, notified the FAA that an unsafe condition may exist on certain Airbus Model A319, A320, and A321 series airplanes. The DGAC advises that, during greasing of the main landing gear (MLG) pintle bearings on a Model A320 series airplane, a crack was found in the forward lug of the right-hand MLG rib 5 fitting. The airplane had accumulated 12,634 total flight cycles and 19,710 total flight hours at the time of the findings. Laboratory analysis of the damaged lug revealed that it was fitted with a bushing that had insufficient cadmium plating. Further investigation revealed that certain Airbus Model A319 and A320 series airplanes may have been equipped with bushings from a batch found to have insufficient cadmium plating. The forward lug of the left- and right-hand MLG rib 5 fitting of Airbus Model A319, A320, and A321 series airplanes that do not have Airbus Modification 32025 incorporated could also be susceptible to cracking. These conditions, if not corrected, could result in failure of the lug and consequent collapse of the MLG during landing.

Relevant Service Information

Airbus has issued Service Bulletin A320-57A1136, dated January 26, 2005 (for Model A319 and A320 series airplanes). The service bulletin describes procedures for a one-time ultrasonic inspection for cracking in the forward lug of the support rib 5 fitting of both MLG. The service bulletin recommends contacting the manufacturer for repair instructions if any cracking is found.

The DGAC mandated Service Bulletin A320-57A1136, and a detailed visual inspection as defined in the visual procedures of Airbus A318/A319/A320/A321 Nondestructive Testing Manual (NTM), Chapter 51-90-00, revision dated February 2003; and issued French airworthiness directive F-2005-035, dated March 2, 2005, to ensure the continued airworthiness of these airplanes in France.

Airbus has also issued Service Bulletin A320-57-1118, dated September 5, 2002, and Revision 01, dated August 28, 2003 (for Model A319, A320, and A321 series airplanes). The service bulletins describe procedures for modification of the lugs of the support rib 5 fitting of the left- and right-hand MLG and related investigative and corrective actions if necessary. The modification includes installing new bushings on the lugs of the support rib 5 fitting of the MLG, and applying protective sealant to the bores and spotfaces of the lug. The related investigative and corrective actions include performing a visual inspection for corrosion/damage of the bores and spotfaces of the lug for the pintle pin bushings, and repair if corrosion/damage is found. Accomplishing this service bulletins eliminates the need to conduct the inspections described above.

FAA's Determination and Requirements of This AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are issuing this AD to require accomplishing the actions specified in Service Bulletin A320-57A1136 (for Model A319 and A320 series airplanes), described previously, except as discussed under “Difference Between the AD and Service Bulletin A320-57A1136.” This AD also requires repetitive detailed inspections for all airplanes for cracking in the forward lug of the support rib 5 fitting of the MLG, and repair if necessary. This AD also provides for optional terminating actions.

Difference Between the AD and Service Bulletin A320-57A1136

The service bulletin specifies that you may contact the manufacturer for repair instructions if cracks are found, but this AD requires you to repair any cracking by using a method that we or the DGAC (or its delegated agent) approve. In light of the type of repair required to address the unsafe condition, and consistent with existing bilateral airworthiness agreements, we have determined that, for this AD, a repair we or the DGAC approve is acceptable for compliance with this AD.

Clarification of Inspection Terminology

In this AD, the “detailed visual inspection” specified in the French airworthiness directive is referred to as a “detailed inspection.” We have included the definition for a detailed inspection in a note in the AD.

Interim Action

We consider this AD interim action. We are currently considering requiring the optional modification of the lugs of the support rib 5 fitting of the left- and right-hand MLG, which would constitute terminating action for the repetitive inspections required by this AD action. However, the planned compliance time for the modification would require us to provide notice and opportunity for prior public comment on the merits of the modification.

FAA's Determination of the Effective Date

An unsafe condition exists that requires the immediate adoption of this AD; therefore, providing notice and opportunity for public comment before the AD is issued is impracticable, and good cause exists to make this AD effective in less than 30 days.

Comments Invited

This AD is a final rule that involves requirements that affect flight safety and was not preceded by notice and an opportunity for public comment; however, we invite you to submit any relevant written data, views, or arguments regarding this AD. Send your comments to an address listed under ADDRESSES. Include “Docket No. FAA-2005-21433; Directorate Identifier 2005-NM-079-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact with FAA personnel concerning this AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-12-07 Airbus: Amendment 39-14123. Docket No. FAA-2005-21433; Directorate Identifier 2005-NM-079-AD.

(b) None.

(b) None.

Effective Date

(a) This AD becomes effective June 30, 2005.

Affected ADs

(b) None.

Applicability

(c) This AD applies to Airbus Model A319, A320, and A321 series airplanes, certificated in any category; except those on which Airbus Modification 32025 was done during production.

Unsafe Condition

(d) This AD was prompted by a report of a crack found in the forward lug of the right-hand main landing gear (MLG) rib 5 fitting during greasing of the MLG pintle bearings. The FAA is issuing this AD to find and fix cracking in the forward lug of the MLG, which could result in failure of the lug and consequent collapse of the MLG during landing.

Compliance

(e) You are responsible for having the actions required by this AD performed within the compliance times specified, unless the actions have already been done.

One-Time Ultrasonic Inspection/Repair

(f) For Model A319 and A320 series airplanes having serial numbers 537 through 625 inclusive: At the earliest of the times specified in paragraphs (f)(1), (f)(2), and (f)(3) of this AD; perform a one-time ultrasonic inspection for cracking in the forward lug of the support rib 5 fitting of the left- and right-hand MLG by doing all the actions specified in the Accomplishment Instructions of Airbus Service Bulletin A320-57A1136, dated January 26, 2005. Repair any cracking before further flight, according to a method approved by either the Manager, International Branch, ANM-116, Transport Airplane Directorate, FAA; or the Direction Générale de l'Aviation Civile (DGAC) (or its delegated agent).

(1) Within 750 flight cycles after the effective date of this AD.

(2) Within 600 flight hours after the effective date of this AD.

(3) Within 100 days after the effective date of this AD.

Repetitive Detailed Inspections

(g) Perform a detailed inspection for cracking in the forward lug of the support rib 5 fitting of the left- and right-hand MLG at the time specified in paragraph (g)(1) or (g)(2) of this AD, as applicable, and repair any cracking before further flight, according to a method approved by either the Manager, International Branch, ANM-116; or the DGAC (or its delegated agent). Accomplishing the actions specified in the Airbus A318/A319/A320/A321 Non-destructive Testing Manual, Chapter 51-90-00, revision dated February 2003, is one approved method for performing the detailed inspection. Repeat the inspection thereafter at intervals not to exceed 750 flight cycles, 600 flight hours, or 100 days, whichever occurs earliest.

(1) For Model A319 and A320 series airplanes having serial numbers 537 through 625 inclusive: Do the detailed inspection within 100 days after the effective date of this AD or at the earliest of the times specified in paragraphs (g)(1)(i), (g)(1)(ii), and (g)(1)(iii) of this AD, whichever is later.

(i) Within 750 flight cycles after accomplishing the ultrasonic inspection.

(ii) Within 600 flight hours after accomplishing the ultrasonic inspection.

(iii) Within 100 days after accomplishing the ultrasonic inspection.

(2) For all other airplanes: Do the detailed inspection at the earliest of the times specified in paragraphs (g)(2)(i), (g)(2)(ii), and (g)(2)(iii) of this AD.

(i) Within 750 flight cycles after the effective date of this AD.

(ii) Within 600 flight hours after the effective date of this AD.

(iii) Within 100 days after the effective date of this AD.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Optional Terminating Action

(h) Modification of the lugs of the support rib 5 fitting of the left- and right-hand MLG and accomplishment of all related investigative actions and all applicable corrective actions in accordance with Airbus Service Bulletin A320-57-1118, dated September 5, 2002; or Revision 01, dated August 28, 2003; constitutes compliance with the requirements of this AD.

(i) Repair of the forward lugs of the support rib 5 fitting of the left- and right-hand MLG in accordance with Airbus A319 Structural Repair Manual, Chapter 5.C., 57-26-13: Airbus A320 Structural Repair Manual, Chapter 5.D., 57-26-13; and Airbus A321 Structural Repair Manual, Chapter 5.D., all revisions dated November 1, 2004, constitutes compliance with the requirements of this AD.

Alternative Methods of Compliance (AMOCs)

(j) The Manager, International Branch, ANM-116, has the authority to approve AMOCs for this AD, if requested in accordance with the procedures found in 14 CFR 39.19.

Related Information

(k) French airworthiness directive F-2005-035, dated March 2, 2005, also addresses the subject of this AD.

Material Incorporated by Reference

(l) You must use Airbus Service Bulletin A320-57A1136, dated January 26, 2005, to perform the actions that are required by this AD, unless the AD specifies otherwise. The Director of the Federal Register approves the incorporation by reference of this document in accordance with 5 U.S.C. 552(a) and 1 CFR part 51. To get copies of the service information, contact Airbus, 1 Rond Point Maurice Bellonte, 31707 Blagnac Cedex, France. To view the AD docket, go to the Docket Management Facility, U.S. Department of Transportation, 400 Seventh Street SW., room PL-401, Nassif Building, Washington, DC. To review copies of the service information, go to the National Archives and Records Administration (NARA). For information on the availability of this material at the NARA, call (202) 741-6030, or go to http://www.archives.gov/federal_register/code_of_federal_regulations/ibr_locations.html.

Issued in Renton, Washington, on June 6, 2005.
Michael J. Kaszycki,
Acting Manager, Transport Airplane Directorate, Aircraft Certification Service.

[FR Doc. 05-11707 Filed 6-14-05; 8:45 am]

BILLING CODE 4910-13-P